DEPARTMENT OF COMMERCE

International Trade Administration

(A-570-827)

Notice of Amended Final Results of Antidumping Duty Administrative Review: Certain Cased Pencils from the People's Republic of China

AGENCY: Import Administration, International Trade Administration, Department of Commerce.

SUMMARY: The Department of Commerce published the final results and partial rescission of the administrative review of the antidumping duty order on certain cased pencils from the People's Republic of China covering the period of review (POR) December 1, 2002, through November 30, 2003, on July 22, 2005. See Certain Cased Pencils From the People's Republic of China; Final Results and Partial Rescission of Antidumping Duty Administrative Review, 70 FR 42301 (July 22, 2005) (Final Results). We are amending our final results to correct ministerial errors alleged by China First Pencil Co., Ltd./Shanghai Three Star Stationery Industry Corp. (CFP/Three Star) and Orient International Holding Shanghai Foreign Trade Co., Ltd. (SFTC) pursuant to section 751(h) of the Tariff Act of 1930, as amended (the Act).

EFFECTIVE DATE: August 30, 2005.

FOR FURTHER INFORMATION CONTACT: Paul Stolz or Erin Begnal, AD/CVD Operations, Office 8, Import Administration, International Trade Administration, U.S. Department of Commerce, 14th Street and Constitution Avenue, NW, Washington, DC 20230; telephone: (202) 482-4474 and (202) 482-1442, respectively.

SUPPLEMENTARY INFORMATION:

Scope of Order

Imports covered by this order are shipments of certain cased pencils of any shape or dimension (except as noted below) which are writing and/or drawing instruments that feature cores of graphite or other materials, encased in wood and/or man-made materials, whether or not decorated and whether or not tipped (e.g., with erasers, etc.) in any fashion, and either sharpened or unsharpened. The pencils subject to the order are currently classifiable under subheading 9609.10.00 of the Harmonized Tariff Schedule of the United States (HTSUS). Specifically excluded from the scope of the order are mechanical pencils, cosmetic pencils, pens, non-cased crayons (wax), pastels, charcoals, chalks, and pencils produced under U.S. patent number 6,217,242, from paper infused with scents by the means covered in the above-referenced patent, thereby having odors distinct from those that may emanate from pencils lacking the scent infusion. Also excluded from the scope of the order are pencils with all of the following physical characteristics: 1) length: 13.5 or more inches; 2) sheath diameter: not less than one-and-one quarter inches at any point (before sharpening); and 3) core length: not more than 15 percent of the length of the pencil.

Although the HTSUS subheading is provided for convenience and customs purposes, our written description of the scope of the order is dispositive.

Amended Final Results

In accordance with section 751(a) the Act, on July 22, 2005, the Department published its final results and partial rescission of the administrative review of certain cased pencils from the People's Republic of China. See Final Results.

On July 20, 2005, CFP/Three Star and SFTC submitted ministerial error allegations with respect to the final results of administrative review. No other interested party submitted ministerial error allegations. No party submitted comments on the ministerial error allegations submitted by CFP/Three Star and SFTC. In accordance with section 751(h) of the Act, we have determined that certain ministerial errors were made in the calculation of the final margins for CFP/Three Star and SFTC. See Memorandum from Charles Riggle, Program Manager, AD/CVD Operations, Office 8, to Wendy J. Frankel, Director, AD/CVD Operations, Office 8: Antidumping Duty Administrative Review of Certain Cased Pencils from the People's Republic of China, Re: Allegation of Ministerial Errors (August 19, 2005). Pursuant to section 751(h) of the Act, we have corrected the errors and are amending the final results of review accordingly. See Memorandum from Paul Stolz and Erin Begnal, Case Analysts through Charles Riggle, Program Manager, to the File, Analysis Memorandum for Amended Final Results for China First Pencil Co., Ltd./Shanghai Three Star Stationery Industry Corp. (August 19, 2005). See Memorandum from Paul Stolz and Erin Begnal, Case Analysts through Charles Riggle, Program Manager, to the File, Analysis Memorandum for Amended Final Results for Orient International Holding Shanghai Foreign Trade Co., Ltd. (August 19, 2005). The revised final weighted-average dumping margins are as follows:

Exporter/Manufacturer | Original weighted-average margin percentage | Amended weighted-average margin percentage
China First Pencil Co., Ltd./Shanghai Three Star Stationery Industry Corp.¹ | 0.61 | 0.15
Orient International Holding Shanghai Foreign Trade Co., Ltd. | 13.25 | 12.69
¹ This rate also applies to subsidiaries Shanghai First Writing Instrument Co., Ltd., Shanghai Great Wall Pencil Co., Ltd., and China First Pencil Fang Zheng Co., Ltd.

The Department shall determine, and CBP shall assess, antidumping duties on all appropriate entries based on the amended final results. For details on the assessment of antidumping duties on all appropriate entries, see Final Results.

Dated: August 19, 2005.
Ronald K. Lorentzen,
Acting Assistant Secretary for Import Administration.

[FR Doc. E5-4729 Filed 8-29-05; 8:45 am]

BILLING CODE: 3510-DS-S